DEPARTMENT OF COMMERCE

International Trade Administration

[A-570-967]

Aluminum Extrusions From the People's Republic of China: Preliminary Results of Antidumping Duty Administrative Review and Rescission of Review in Part; 2018-2019

AGENCY: Enforcement and Compliance, International Trade Administration, Department of Commerce.

SUMMARY: The Department of Commerce (Commerce) is conducting an administrative review of the antidumping duty (AD) order on aluminum extrusions from the People's Republic of China (China). The period of review (POR) is May 1, 2018 through April 30, 2019. Commerce preliminarily determines that none of the 52 companies for which an administrative review was requested, and not withdrawn, demonstrated eligibility for a separate rate, and are, therefore, all part of the China-wide entity. For the 205 companies for which all requests for administrative review have been timely withdrawn, we rescind this administrative review. Interested parties are invited to comment on these preliminary results.

DATES: Applicable December 31, 2019.

FOR FURTHER INFORMATION CONTACT: Heather Lui or Mark Flessner, AD/CVD Operations, Office VI, Enforcement and Compliance, International Trade Administration, Department of Commerce, 1401 Constitution Avenue NW, Washington, DC 20230; telephone: (202) 482-0016 or (202) 482-6312, respectively.

SUPPLEMENTARY INFORMATION:

Background

On July 15, 2019, Commerce published the notice of initiation of the administrative review of the AD order on aluminum extrusions from China ¹ for the period May 1, 2018 through April 30, 2019, covering 257 companies.² All requests for administrative review were timely withdrawn with regard to 205 companies (listed in Appendix II to this notice), leaving 52 companies subject to administrative review.³ For a complete description of the events that followed the initiation of this administrative review, see the Preliminary Decision Memorandum.⁴

¹ See Aluminum Extrusions from the People's Republic of China: Antidumping Duty Order, 76 FR 30650 (May 26, 2011) (Order).

² See Initiation of Antidumping and Countervailing Duty Administrative Reviews, 84 FR 33739 (July 15, 2019) (Initiation Notice); see also Initiation of Antidumping and Countervailing Duty Administrative Reviews, 84 FR 47242, 47248 (September 9, 2019) (Correction Notice), which contained a correction to the Initiation Notice.

³ See Aluminum Extrusions Fair Trade Committee's and Endura Products, Inc.'s Letter, “Aluminum Extrusions from the People's Republic of China: Partial Withdrawal of Request for Administrative Review,” dated October 15, 2019.

⁴ See Memorandum, “Decision Memorandum for Preliminary Results of Antidumping Duty Administrative Review: Aluminum Extrusions from the People's Republic of China; 2018-2019,” dated concurrently with, and hereby adopted by, this notice (Preliminary Decision Memorandum).

The Preliminary Decision Memorandum is a public document and is on file electronically via Enforcement and Compliance's AD and Countervailing Duty Centralized Electronic Service System (ACCESS). ACCESS is available to registered users at https://access.trade.gov, and to all parties in the Central Records Unit, Room B8024 of the main Commerce building. In addition, a complete version of the Preliminary Decision Memorandum can be accessed directly on the internet at http://enforcement.trade.gov/frn/. The signed and the electronic versions of the Preliminary Decision Memorandum are identical in content. A list of topics included in the Preliminary Decision Memorandum is included as Appendix I to this notice.

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents).⁵

⁵ See Preliminary Decision Memorandum for a complete description of the scope of the Order.

Imports of the subject merchandise are provided for under the following categories of the Harmonized Tariff Schedule of the United States (HTSUS): 7604.29.3060; 7604.29.3090; 7604.29.5050; 7604.29.5090; 8541.90.00.00, 8708.10.30.50, 8708.99.68.90, 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.⁶

⁶ See Order.

Methodology

Commerce is conducting this review in accordance with section 751(a)(1)(B) of the Tariff Act of 1930, as amended (the Act). For a full description of the methodology underlying our preliminary results of review, see the Preliminary Decision Memorandum.

Rescission of Administrative Review, in Part

Pursuant to 19 CFR 351.213(d)(1), Commerce will rescind an administrative review, in whole or in part, if the party or parties that requested a review withdraws the request within 90 days of the publication date of the notice of initiation of the requested review. As noted above, all requests for an administrative review were timely withdrawn for certain companies. Therefore, in accordance with 19 CFR 351.213(d)(1), we are rescinding this administrative review with respect to 205 of the 257 companies named in the Initiation Notice.⁷ See Appendix II for a list of these companies.⁸

⁷ See Initiation Notice, 84 FR at 33743-46; see also Correction Notice, 84 FR at 47248.

⁸ See Preliminary Decision Memorandum for further details.

Separate Rates

In the Initiation Notice, we informed parties of the opportunity to request a separate rate.⁹ In proceedings involving non-market economy (NME) countries, Commerce begins with a rebuttable presumption that all companies within the NME country are subject to government control, and thus should be assigned a single weighted-average dumping margin. It is Commerce's policy to assign all exporters of merchandise subject to an administrative review involving an NME country this single rate unless an exporter can demonstrate that it is sufficiently independent so as to be entitled to a separate rate. Companies that wanted to qualify for separate rate status in this administrative review were required to timely file, as appropriate, a separate rate application (SRA) or a separate rate certification (SRC) to demonstrate their eligibility for a separate rate. SRAs and SRCs were due to Commerce within 30 calendar days of the publication of the Initiation Notice.¹⁰ However, because certain information was corrected in the Correction Notice,¹¹ Commerce extended the deadline for submission of SRAs, SRCs, and certifications of no shipments to September 6, 2019.¹²

⁹ See Initiation Notice, 84 FR at 33740-41.

¹⁰ Id., 84 FR at 33741.

¹¹ See Correction Notice, 84 FR at 47248.

¹² See Memorandum, “2018-2019 Administrative Review of the Antidumping Duty Order on Aluminum Extrusions from the People's Republic of China: Correction of Initiation Notice and Deadlines for Notice of No Sales, Separate Rate Application/Certifications, and Quantity and Value Questionnaire Responses,” dated August 5, 2019.

Of the companies for which an administrative review was requested, and not withdrawn, none submitted an SRA, SRC, or certification of no shipments. Therefore, no company for which a request for administrative review remains in place has demonstrated that it is entitled to a separate rate. We therefore preliminarily determine that the following companies are not eligible for a separate rate in this administrative review: (1) Activa Leisure Inc.; (2) Allied Maker Limited; (3) Birchwoods (Lin'an) Leisure Products Co., Ltd.; (4) Changzhou Changzhen Evaporator Co., Ltd.; (5) Changzhou Changzheng Evaporator Co., Ltd.; (6) Cosco (J.M.) Aluminum Co., Ltd.; (7) Cosco (JM) Aluminum Development Co. Ltd; (8) Dynabright International Group (HK) Ltd.; (9) Dynamic Technologies China; (10) ETLA Technology (Wuxi) Co., Ltd; (11) First Union Property Limited; (12) Foshan Jinlan Aluminum Co., Ltd.; (13) Foshan JinLan Aluminum Co., Ltd.; (14) Foshan Shanshui Fenglu Aluminum Co., Ltd.; (15) Guangdong Hao Mei Aluminum Co., Ltd.; (16) Guangdong Weiye Aluminum Factory Co., Ltd.; (17) Guangdong Xingfa Aluminum Co., Ltd.; (18) Hanwood Enterprises Limited; (19) Hanyung Metal (Suzhou) Co., Ltd.; (20) Honsense Development Company; (21) Innovative Aluminum (Hong Kong) Limited; (22) Jiangsu Changfa Refrigeration Co.; (23) Jiangyin Trust International Inc.; (24) Jiangyin Xinhong Doors and Windows Co., Ltd.; (25) JMA (HK) Company Limited; (26) Justhere Co., Ltd.; (27) Kanal Precision Aluminum Product Co., Ltd; (28) Kromet International; (29) Kromet International Inc.; (30) Kromet Intl Inc; (31) Longkou Donghai Trade Co., Ltd.; (32) Metaltek Group Co., Ltd.; (33) Ningbo Yili Import and Export Co., Ltd.; (34) North China Aluminum Co., Ltd.; (35) PanAsia Aluminum (China) Limited; (36) Pingguo Aluminum Company Limited; (37) Pingguo Asia Aluminum Co., Ltd.; (38) Popular Plastics Company Limited; (39) Precision Metal Works Ltd.; (40) Shangdong Nanshan Aluminum Co., Ltd.; (41) Shanghai Tongtai Precise Aluminum Alloy Manufacturing Co., Ltd.; (42) Shenzhen Jiuyuan Co., Ltd.; (43) Skyline Exhibit Systems (Shanghai) Co., Ltd.; (44) Summit Heat Sinks Metal Co., Ltd; (45) tenKsolar (Shanghai) Co., Ltd.; (46) Tianjin Jinmao Import & Export Corp., Ltd.; (47) Tianjin Ruxin Electric Heat Transmission Technology Co., Ltd.; (48) Top-Wok Metal Co., Ltd.; (49) Union Industry (Asia) Co., Ltd.; (50) Zhejiang Anji Xinxiang Aluminum Co., Ltd.; (51) Zhejiang Yongkang Listar Aluminum Industry Co., Ltd.; and (52) Zhongshan Gold Mountain Aluminum Factory Ltd.¹³

¹³ See Preliminary Decision Memorandum at 9-11.

China-Wide Entity

We preliminarily find that the 52 companies listed above are part of the China-wide entity in this administrative review because they failed to submit an SRA, SRC, or certification of no shipments.

Commerce's policy regarding conditional review of the China-wide entity applies to this administrative review.¹⁴ Under this policy, the China-wide entity will not be under review unless a party specifically requests, or Commerce self-initiates, a review of the entity. Because no party requested a review of the China-wide entity in the instant review, and because Commerce did not self-initiate such a review, the entity is not under review, and the entity's current rate (i.e., 86.01 percent) ¹⁵ is not subject to change.

¹⁴ See Antidumping Proceedings: Announcement of Change in Department Practice for Respondent Selection in Antidumping Duty Proceedings and Conditional Review of the Nonmarket Economy Entity in NME Antidumping Duty Proceedings, 78 FR 65963, 65970 (November 4, 2013).

¹⁵ See Aluminum Extrusions from the People's Republic of China: Final Results of Antidumping Duty Administrative Review; 2017-2018, 84 FR 56164, 56165 (October 21, 2019).

Adjustments for Countervailable Subsidies

Because no company established eligibility for an adjustment under section 777A(f) of the Act for countervailable domestic subsidies, for these preliminary results, Commerce did not make an adjustment pursuant to section 777A(f) of the Act for countervailable domestic subsidies for any companies under review. Furthermore, because the China-wide entity is not under review, we made no adjustment for countervailable export subsidies for the China-wide entity pursuant to section 772(c)(1)(C) of the Act.

Disclosure and Public Comment

Normally, Commerce discloses to interested parties the calculations performed in connection with the preliminary results within five days of the public announcement, or if there is no public announcement, within five days of the date of publication of this notice in accordance with 19 CFR 351.224(b). However, because Commerce did not calculate weighted-average dumping margins for any companies in this review, nor for the China-wide entity, there is nothing further to disclose. This satisfies our regulatory obligation.

Interested parties may submit case briefs no later than 30 days after the date of publication of this notice.¹⁶ Rebuttal briefs, limited to issues raised in the case briefs, may be filed no later than five days after the case briefs are filed.¹⁷ Parties who submit case or rebuttal briefs in this review are requested to submit with each argument: (a) A statement of the issue, (b) a brief summary of the argument, and (c) a table of authorities.¹⁸

¹⁶ See 19 CFR 351.309(c)(1)(ii).

¹⁷ See 19 CFR 351.309(d).

¹⁸ See 19 CFR 351.309(c)(2) and (d)(2).

Any interested party may request a hearing within 30 days of publication of this notice.¹⁹ Hearing requests should contain the following information: (1) The party's name, address, and telephone number; (2) the number of participants; and (3) a list of the issues to be discussed. Oral presentations at the hearing will be limited to issues raised in the case and rebuttal briefs. If a request for a hearing is made, parties will be notified of the time and date for the hearing to be held at the U.S. Department of Commerce, 1401 Constitution Avenue NW, Washington, DC 20230.²⁰

¹⁹ See 19 CFR 351.310(c).

²⁰ See 19 CFR 351.310(d).

All submissions, with limited exceptions, must be filed electronically using ACCESS.²¹ An electronically filed document must be received successfully in its entirety by Commerce's electronic records system, ACCESS, by 5 p.m. Eastern Time (ET) on the due date. Documents excepted from the electronic submission requirements must be filed manually (i.e., in paper form) with the APO/Dockets Unit in Room 18022 and stamped with the date and time of receipt by 5 p.m. ET on the due date.²²

²¹ See generally 19 CFR 351.303.

²² See Antidumping and Countervailing Duty Proceedings: Electronic Filing Procedures; Administrative Protective Order Procedures, 76 FR 39263 (July 6, 2011).

Unless otherwise extended, Commerce intends to issue the final results of this administrative review, which will include the results of our analysis of all issues raised in any briefs received, within 120 days of publication of these preliminary results in the Federal Register, pursuant to section 751(a)(3)(A) of the Act.

Assessment Rates

Upon issuance of the final results of this review, Commerce will determine, and U.S. Customs and Border Protection (CBP) shall assess, antidumping duties on all appropriate entries covered by this review.²³ Commerce intends to issue assessment instructions to CBP 15 days after publication of the final results of this review.

²³ See 19 CFR 351.212(b)(1).

We intend to instruct CBP to liquidate entries containing subject merchandise exported by the China-wide entity at the China-wide rate. Additionally, if Commerce determines that an exporter under review had no shipments of the subject merchandise, any suspended entries that entered under that exporter's case number will be liquidated at the China-wide rate.²⁴

²⁴ See Non-Market Economy Antidumping Proceedings: Assessment of Antidumping Duties, 76 FR 65694 (October 24, 2011).

For the companies for which this review is rescinded, antidumping duties shall be assessed at rates equal to the cash deposit of estimated antidumping duties required at the time of entry, or withdrawal from warehouse, for consumption, in accordance with 19 CFR 351.212(c)(1)(i). Commerce intends to issue assessment instructions to CBP for those companies 15 days after publication of this notice.

Cash Deposit Requirements

The following cash deposit requirements for estimated antidumping duties, when imposed, will apply to all shipments of subject merchandise from China entered, or withdrawn from warehouse, for consumption on or after the publication of the final results of this administrative review, as provided by section 751(a)(2)(C) of the Act: (1) If the companies preliminarily determined to be eligible for a separate rate receive a separate rate in the final results of this administrative review, their cash deposit rate will be equal to the weighted-average dumping margin established in the final results of this review, as adjusted for domestic and export subsidies (except that if that rate is de minimis, then the cash deposit rate will be zero); (2) for any previously investigated or reviewed Chinese and non-Chinese exporters that are not under review in this segment of the proceeding but that received a separate rate in the most recently completed segment of this proceeding, the cash deposit rate will continue to be the exporter-specific rate published for the most recently completed segment of this proceeding; (3) for all Chinese exporters of subject merchandise that have not been found to be entitled to a separate rate, the cash deposit rate will be that of the China-wide entity; (4) for the China-wide entity, the cash deposit rate will be 86.01 percent; and (5) for all non-Chinese exporters of subject merchandise which have not received their own rate, the cash deposit rate will be the rate applicable to the Chinese exporter that supplied that non-Chinese exporter.

These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing notice of these preliminary results in accordance with sections 751(a)(1) and 777(i)(1) of the Act and 19 CFR 351.221(b)(4).

Dated: December 20, 2019.
Jeffrey I. Kessler,
Assistant Secretary for Enforcement and Compliance.

Appendix I

List of Topics Discussed in the Preliminary Decision Memorandum

I. Summary

II. Background

III. Scope of the Order

IV. Respondent Selection

V. Rescission of Administrative Review, in Part

VI. Non-Market Economy Country

VII. Separate Rates

VIII. The China-Wide Entity

IX. Adjustments for Countervailable Subsidies

X. Conclusion

Appendix II

Companies for Which This Administrative Review Is Being Rescinded

1. Activa International Inc.

2. Acro Import and Export Co.

3. Agilent Technologies Co. Ltd (China)

4. Alnan Aluminum Co., Ltd.

5. Alnan Aluminum Ltd.

6. Aluminicaste Fundicion de Mexico

7. AMC Limited

8. AMC Ltd.

9. Anji Chang Hong Chain Manufacturing

10. Anshan Zhongjda Industry Co., Ltd

11. Aoda Aluminium (Hong Kong) Co., Limited

12. AsiaAlum Group

13. Atlas Integrated Manufacturing Ltd.

14. Bath Fitter

15. Behr-Hella Thermocontrol (Shanghai) Co. Ltd.

16. Belton (Asia) Development Limited

17. Belton (Asia) Development Ltd.

18. Bolnar Hong Kong Ltd.

19. Bracalente Metal Products (Suzhou) Co., Ltd.

20. Brilliance General Equipment Co., Ltd.

21. Changshu Changsheng Aluminum Products Co., Ltd.

22. Changshu Changshen Aluminum Products Co., Ltd.

23. Changzhou Tenglong Auto Accessories Manufacturing Co. Ltd

24. Changzhou Tenglong Auto Parts Co Ltd

25. Changzhou Tenglong Auto Parts Co., Ltd.

26. China Square

27. China Square Industrial Ltd

28. China Square Industrial Co.

29. China Zhoungwang Holdings, Ltd.

30. Chiping One Stop Industrial & Trade Co., Ltd.

31. Classic & Contemporary Inc.

32. Clear Sky Inc.

33. Colclisa S.A. de C.V.

34. CRRC Changzhou Auto Parts Co., Ltd.

35. Dalian Huachange Aquatic Products

36. Dalian Liwang Trade Co., Ltd.

37. Danfoss Micro Channel Heat Exchanger (Jia Xing) Co., Ltd.

38. Daya Hardware Co Ltd

39. Dongguan Aoda Aluminum Co., Ltd.

40. Dongguan Dazhan Metal Co., Ltd.

41. Dongguan Golden Tiger Hardware Industrial Co., Ltd.

42. Dongguang Aoda Aluminum Co., Ltd.

43. Dragonluxe Limited

44. Ever Extend Ent. Ltd.

45. Fenghua Metal Product Factory

46. FookShing Metal & Plastic Co. Ltd.

47. Foreign Trade Co. of Suzhou New & High-Tech Industrial Development Zone

48. Foshan City Nanhai Hongjia Aluminum Alloy Co., Ltd.

49. Foshan Golden Source Aluminum Products Co., Ltd.

50. Foshan Guangcheng Aluminium Co., Ltd

51. Foshan JMA Aluminum Company Limited

52. Foshan Nanhai Niu Yuan Hardware Product Co., Ltd.

53. Foshan Shunde Aoneng Electrical Appliances Co., Ltd

54. Foshan Yong Li Jian Aluminum Co., Ltd.

55. Fujian Sanchuan Aluminum Co., Ltd.

56. Fukang Aluminum & Plastic Import and Export Co., Ltd.

57. Fuzhou Sunmodo New Energy Equipment

58. Gaotang Xinhai Economy & Trade Co., Ltd.

59. Genimex Shanghai, Ltd.

60. Global Hi-Tek Precision Co. Ltd

61. Global PMX Dongguan Co., Ltd.

62. Global Point Technology (Far East) Limited

63. Gold Mountain International Development, Ltd.

64. Golden Dragon Precise Copper Tube Group, Inc.

65. Gran Cabrio Capital Pte. Ltd.

66. Gree Electric Appliances

67. Green Line Hose & Fittings

68. GT88 Capital Pte. Ltd.

69. Guang Ya Aluminium Industries (HK) Ltd.

70. Guang Ya Aluminium Industries Co. Ltd.

71. Guang Ya Aluminum Industries Company Ltd

72. Guangcheng Aluminum Co., Ltd

73. Guangdong Jianmei Aluminum Profile Company Limited

74. Guangdong JMA Aluminum Profile Factory (Group) Co., Ltd.

75. Guangdong Midea

76. Guangdong Midea Microwave and Electrical Appliances

77. Guangdong Nanhai Foodstuffs Imp. & Exp. Co., Ltd.

78. Guangdong Whirlpool Electrical Appliances Co., Ltd.

79. Guangdong Xin Wei Aluminum Products Co., Ltd.

80. Guangdong Yonglijian Aluminum Co., Ltd.

81. Guangdong Zhongya Aluminum Company Ltd.

82. Guangzhou Jangho Curtain Wall System Engineering Co., Ltd.

83. Guangzhou Mingcan Die-Casting Hardware Products Co., Ltd.

84. Hangzhou Xingyi Metal Products Co., Ltd.

85. Hanyung Alcoba Co., Ltd.

86. Hanyung Alcobis Co., Ltd.

87. Hao Mei Aluminum Co., Ltd.

88. Hao Mei Aluminum International Co., Ltd.

89. Hebei Xusen Wire Mesh Products Co., Ltd.

90. Henan New Kelong Electrical Appliances Co., Ltd.

91. Henan Zhongduo Aluminum Magnesium New Material Co, Ltd.

92. Hitachi High-Technologies (Shanghai) Co., Ltd.

93. Hong Kong Gree Electric Appliances Sales Limited

94. Hong Kong Modern Non-Ferrous Metal

95. Hui Mei Gao Aluminum Foshan Co., Ltd.

96. Huixin Aluminum

97. IDEX Dinglee Technology (Tianjin) Co., Ltd.

98. IDEX Health

99. IDEX Technology Suzhou Co., Ltd.

100. iSource Asia

101. Jackson Travel Products Co., Ltd.

102. Jangho Curtain Wall Hong Kong Ltd.

103. Jiangmen Jianghai District Foreign Economic Enterprise Corp. Ltd.

104. Jiangmen Jianghai Foreign Ent. Gen.

105. Jiangmen Qunxing Hardware Diecasting Co., Ltd.

106. Jiangyin Suncitygaylin

107. Jiaxing Jackson Travel Products Co., Ltd.

108. Jiaxing Taixin Metal Products Co., Ltd.

109. Jiuyan Co., Ltd.

110. Johnson Precision Engineering (Suzhou) Co., Ltd.

111. Kam Kiu Aluminum Products Sdn Bhd

112. Kartlon Aluminum Company Ltd.

113. Kong Ah International Company Limited

114. Kunshan Giant Light Metal Technology Co., Ltd.

115. Liaoning Zhong Da Industrial Aluminum Co., Ltd.

116. Liaoning Zhongwang Group Co., Ltd.

117. Liaoyang Zhongwang Aluminum Profile Co. Ltd.

118. MAAX Bath Inc.

119. MAHLE Holding (China) Co., Ltd

120. Metal Tech Co Ltd

121. Metaltek Metal Industry Co., Ltd.

122. Midea Air Conditioning Equipment Co., Ltd.

123. Midea Electric Trading Co., Pte Ltd

124. Midea International Trading Co., Ltd.

125. Midea International Training Co., Ltd.

126. Miland Luck Limited

127. Nanhai Textiles Import & Export Co., Ltd.

128. New Asia Aluminum & Stainless Steel Product Co., Ltd.

129. New Zhongya Aluminum Factory

130. Nidec Sankyo (Zhejang) Corporation

131. Nidec Sankyo Singapore Pte. Ltd.

132. Nidec Sankyo Zhejiang Corporation

133. Ningbo Coaster International Co., Ltd.

134. Ningbo Hi Tech Reliable Manufacturing Company

135. Ningbo Innopower Tengda Machinery

136. Ningbo Ivy Daily Commodity Co., Ltd.

137. North Fenghua Aluminum Ltd.

138. Northern States Metals

139. PENCOM Dongguan China

140. Pengcheng Aluminum Enterprise Inc.

141. Permasteelisa Hong Kong Limited

142. Permasteelisa South China Factory

143. Press Metal International Ltd.

144. Qingdao Sea Nova Building

145. Samuel, Son & Co., Ltd.

146. Sanchuan Aluminum Co., Ltd.

147. Sanhua (Hangzhou) Micro Channel Heat Exchanger Co., Ltd

148. Shandong Fukang Aluminum & Plastic Co. LTD

149. Shandong Huajian Aluminum Group

150. Shangdong Huasheng Pesticide Machinery Co.

151. Shanghai Automobile Air Conditioner Accessories Ltd.

152. Shanghai Automobile Air-Conditioner Accessories Co Ltd

153. Shanghai Canghai Aluminum Tube Packaging Co., Ltd

154. Shanghai Dofiberone Composites Co. Ltd.

155. Shanghai Dongsheng Metal

156. Shanghai Shen Hang Imp & Exp Co., Ltd.

157. Shanghai Top-Ranking Aluminum Products Co., LTD

158. Shanghai Top-Ranking New Materials Co., Ltd.

159. Shenyang Yuanda Aluminum Industry Engineering Co. Ltd.

160. Shenzhen Hudson Technology Development Co.

161. Sihui Shi Guo Yao Aluminum Co., Ltd.

162. Sincere Profit Limited

163. Southwest Aluminum (Group) Co., Ltd.

164. Springs Window Fashions De Victoria

165. Summit Plastics Nanjing Co. Ltd

166. Suzhou JRP Import & Export Co., Ltd.

167. Suzhou New Hongji Precision Part Co.

168. Tai-Ao Aluminum (Taishan) Co. Ltd.

169. Taishan City Kam Kiu Aluminium Extrusion Co., Ltd.

170. Taitoh Machinery Shanghai Co Ltd

171. Taizhou Lifeng Manufacturing Co., Ltd.

172. Taizhou United Imp. & Exp. Co., Ltd.

173. Tianjin Ganglv Nonferrous Metal Materials Co., Ltd.

174. Tianjin Xiandai Plastic & Aluminum Products Co., Ltd.

175. Tiazhou Lifeng Manufacturing Corporation

176. Traffic Brick Network, LLC

177. Union Aluminum (SIP) Co.

178. USA Worldwide Door Components (Pinghu) Co., Ltd.

179. Wenzhou Shengbo Decoration & Hardware

180. Wenzhou Yongtai Electric Co., Ltd.

181. Whirlpool (Guangdong)

182. Whirlpool Canada L.P.

183. Whirlpool Microwave Products Development Ltd.

184. Wonjin Autoparts

185. Worldwide Door Components, Inc.

186. WTI Building Products, Ltd.

187. Wuxi Lutong Fiberglass Doors Co., Ltd.

188. Xin Wei Aluminum Co.

189. Xin Wei Aluminum Company Limited

190. Xinchang Yongqiang Air Conditioning Accessories Co., Ltd.

191. Xinya Aluminum & Stainless Steel Product Co., Ltd.

192. Yuyao Fanshun Import & Export Co., Ltd.

193. Yuyao Haoshen Import & Export

194. Zahoqing China Square Industry Limited

195. Zhaoqing Asia Aluminum Factory Company Ltd.

196. Zhaoqing China Square Industrial Ltd.

197. Zhaoqing China Square Industry Limited

198. Zhaoqing New Zhongya Aluminum Co., Ltd.

199. Zhejiang Lilies Industrial and Commercial Co

200. Zhejiang Yili Automobile Air Condition Co., Ltd

201. Zhejiang Zhengte Group Co., Ltd.

202. Zhenjiang Xinlong Group Co., Ltd.

203. Zhongshan Daya Hardware Co., Ltd.

204. Zhongya Shaped Aluminum (HK) Holding Limited

205. Zhuhai Runxingtai Electrical Equipment Co., Ltd.

[FR Doc. 2019-28265 Filed 12-30-19; 8:45 am]

BILLING CODE 3510-DS-P